NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before July 29, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 837-3635. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Air Force, Agency-wide (N1-AFU-02-17, 75 items, 75 temporary items). Electronic copies of documents created using electronic mail and word processing that relate to intelligence activities, weather observations, operations support, manpower and organizational matters, and legal programs and activities as well as electronic records that relate to such matters and that supplement or replace paper records already approved for disposal. Records relate to such subjects as proposals for the collection of intelligence, the preparation of intelligence estimates, surface and upper air observations, weather reconnaissance, strategic trade control, productivity enhancement, financial programs, and the administration of military justice.

2. Department of the Air Force, Agency-wide (N1-AFU-02-18, 75 items, 75 temporary items). Electronic copies of documents created using electronic mail and word processing that relate to research and development, standardization of equipment, criminal investigations, and safety as well as electronic records that supplement or replace paper records relating to these matters that were previously approved for disposal. Records pertain to such subjects as research and development planning and projects, testing of aircraft and equipment, equipment specifications, aircraft nomenclature, counterintelligence operations, informants, polygraph examinations, security investigations of personnel, personnel credentials, personnel safety, nuclear weapons safety, nuclear reactors, flying violations, and aircraft accidents.

3. Department of Commerce, Economics and Statistics Administration (N1-40-01-4, 27 items, 22 temporary items). Records of the immediate office of the Under Secretary and the Deputy Under Secretary for Economic Affairs, including such records as correspondence files, extra copies of publications, working papers, procurement survey data, and electronic copies of records created using electronic mail and word processing. Also included are electronic records associated with the STAT-USA Internet Database, including such records as input data provided by other Federal agencies, the superseded data file and system library copy, system backups, and copies of monthly CD-ROM products. Proposed for permanent retention are recordkeeping copies of such files as publications and briefing books, and speeches. Also proposed for permanent retention are the STAT-USA master data file, which contains statistics and other information pertaining to trade, manufacturing, and other economic activities, as well as system documentation and STAT-USA annual summary disks.

4. Department of Defense, Defense Intelligence Agency (N1-373-02-3, 1 item, 1 temporary item). Paper copies of Iraqi documents captured during Operation Desert Storm. These records, which are contaminated by mold, have been scanned. Scanned images will be appraised and scheduled separately.

5. Department of Defense, Defense Threat Reduction Agency (N1-374-02-3, 3 items, 3 temporary items). Electronic systems and related outputs that pertain to administrative aspects of treaty inspection missions and operations, such as training, mission scheduling, and the acquisition of passports.

6. Department of Justice, Office of the Attorney General (N1-60-02-5, 10 items, 2 temporary items). Electronic mail and word processing records accumulated by the Commission for the Review of Federal Bureau of Investigation Security Programs. Recordkeeping copies of the commission's records are proposed for permanent retention, including interviews, document request correspondence, minutes and transcripts of meetings, FBI debriefings of Robert Phillip Hanssen, transcripts of commission interviews with Hanssen, and correspondence files of the Commission Director and Counsel.

7. Department of Justice, Federal Bureau of Investigation (N1-65-02-4, 1 item, 1 temporary item). Fingerprint cards and related records generated in the course of background investigations of military enlistees and applicants for Federal Government employment.

8. Department of Justice, Drug Enforcement Administration (N1-170-02-3, 4 items, 2 temporary items). Inputs and outputs for an electronic system relating to investigative cases. The electronic data is proposed for permanent retention along with the related system documentation.

9. Department of the Treasury, Office of the Secretary (N1-56-02-3, 29 items, 24 temporary items). Files accumulated in the Office of the Secretary, including such records as electronic tracking systems for correspondence, telephone logs, invitations, and trip files. Also included are electronic copies of records created using electronic mail and word processing. Proposed for permanent retention are recordkeeping copies of calendars and daily schedules, official correspondence, briefing books, and daybooks of the Secretary and the Deputy Secretary.

10. Environmental Protection Agency, Office of Prevention, Pesticides, and Toxic Substances (N1-412-01-8, 3 items, 2 temporary items). Records relating to the testing of chemicals in accordance with rules published under Section 4 of the Toxic Substance Control Act that have been microfilmed. Also included are electronic copies of documents created using electronic mail and word processing. Microfilm copies of records as well as paper records that have not been filmed are proposed for permanent retention.

11. National Archives and Records Administration, Modern Records Programs (N2-441-02-1, 1 item, 1 temporary item). Higher Education Civil Rights Surveys accumulated by the Department of Education in 1976 and 1978 that are in the National Archives. The data in these records has been incorporated into Higher Education General Information Survey electronic files held by the National Archives.

12. Office of Navajo and Hopi Indian Relocation, Relocation Operations Division (N1-220-02-1, 32 items, 26 temporary items). Records of the Relocations Operations Division, including such records as potential applicant case files, land appraisal records relating to land for which no property owner could be located, chronological files, subject files, project working files, and electronic copies of documents created using electronic mail and word processing. Proposed for permanent retention are recordkeeping copies of such records as client case files, Joint Use Area rosters and reports, and appraisal case files.

13. Office of Navajo and Hopi Indian Relocation, Executive Direction Division (N1-220-02-2, 9 items, 6 temporary items). Electronic copies of documents created using electronic mail and word processing. Proposed for permanent retention are recordkeeping copies of files of the commissioner and executive director, including meeting files, subject files, and research and planning files.

14. Office of Navajo and Hopi Indian Relocation, Administrative Services Division (N1-220-02-3, 6 items, 5 temporary items). Working files and electronic copies of documents created using electronic mail and word processing. Proposed for permanent retention are recordkeeping copies of procedural directives and other documents pertaining to policies and procedures.

15. Office of Navajo and Hopi Indian Relocation, Administrative Services Division (N1-220-02-4, 6 items, 6 temporary items). Project files for such activities as building construction and subdivision development, radiation safety program files created to document the use of radiation for the testing of soil compaction for the development of roads, and electronic copies of documents created using electronic mail and word processing. Documentation concerning projects is proposed for permanent retention in schedules for other offices of this agency.

16. Office of Navajo and Hopi Indian Relocation, Legal Department (N1-220-02-5, 17 items, 16 temporary items). Litigation and attorney working files, conservatorship and probate working files, annual reports of eligibility where a consolidated report has been identified as permanent, attorney program files, audio tapes of transcribed client eligibility appeal hearings, and electronic copies of documents created using electronic mail and word processing. Recordkeeping copies of legal opinions are proposed for permanent retention. Documentation concerning legal matters is also available in client case files accumulated by the Relocation Operations Division, which also are proposed for permanent retention.

17. Office of Navajo and Hopi Indian Relocation, New Lands Division (N1-220-02-6, 19 items, 14 temporary items). Working files of homesite leases, New Lands Chapter projects working files, and electronic copies of documents created using electronic mail and word processing. Proposed for permanent retention are recordkeeping copies of New Lands project files, range management files, cultural resources management files, and maps and indexes to maps.

18. Office of Navajo and Hopi Indian Relocation, Administrative Services Division (N1-220-02-7, 9 items, 3 temporary items). Reference copies of maps and electronic copies of documents created using electronic mail and word processing. Proposed for permanent retention are recordkeeping copies of reports, publications, studies, maps, charts, and planning records for the development of New Lands.

19. Office of Navajo and Hopi Indian Relocation, Administrative Services Division (N1-220-02-14, 4 items, 3 temporary items). Client vendor files and electronic copies of documents created using electronic mail and word processing. Recordkeeping copies of New Lands program operations vendor case files are proposed for permanent retention.

Dated: June 6, 2002.
Michael J. Kurtz,
Assistant Archivist for Record Services—Washington, DC.

[FR Doc. 02-14733 Filed 6-11-02; 8:45 am]

BILLING CODE 7515-01-P